DEPARTMENT OF COMMERCE

Foreign-Trade Zones Board

Docket 40-2006

Foreign-Trade Zone 104 - Savannah, Georgia, Application for Expansion

An application has been submitted to the Foreign-Trade Zones Board (the Board) by the Savannah Airport Commission, grantee of FTZ 104, requesting authority to expand FTZ 104, in the Savannah, Georgia, area, within the Savannah Customs port of entry. The application was submitted pursuant to the provisions of the Foreign-Trade Zones Act, as amended (19 U.S.C. 81a-81u), and the regulations of the Board (15 CFR Part 400). It was formally filed on September 25, 2006.

FTZ 104 was approved on April 18, 1984 (Board Order 256, 49 FR 17789, 4/25/84) at sites in Savannah and Chatham County, adjacent to the Savannah Customs port of entry. The zone project currently consists of the following sites in the Savannah, Georgia area: Site 1 (32 acres)-within the 3,400-acre Savannah International Airport, Savannah; Site 2 (1,075 acres)-includes the 849-acre Garden City (Containerport) Terminal, 2 Main Street, Chatham, and 226-acre Ocean Terminal, 950 West River Street, Savannah; Site 2A (1 acre, 43, 560 sq. ft.)-730 King George Boulevard, Savannah; Site 3 (1,820 acres)-Crossroads Business Center, Interstate 95 and Godley Road, Chatham County; Site 4 (1,353 acres)-SPA Industrial Park, 1 mile east of the Interstate 95/U.S. 80 interchange, Chatham County; Site 5 (24 acres)-within the 94-acre Savannah International Trade and Convention Center, One International Drive, Savannah; Site 6 (1,182 acres)-Mulberry Grove site, Interstate 95 and State Highway 21, Savannah; Site 7 (1,592 acres, 3 parcels)-within a 2,140-acre portion of the Tradeport Business Center industrial park, 380 Sunbury Road, Midway.

The applicant is requesting authority to add a 98 acre site, located at a proposed industrial park on Tremont Road near the interchange of I-16 and GA 516, Savannah. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses below. The closing period for their receipt is December 5, 2006. Rebuttal comments in response to material submitted during the foregoing period may be submitted during the subsequent 15-day period to December 20, 2006.

A copy of the application and accompanying exhibits will be available for public inspection at the Office of the Executive Secretary, Foreign-Trade Zones Board, Room 1115, U.S. Department of Commerce, 1401 Constitution Avenue, N.W., Washington, DC 20230 and at the Savannah Airport Commission, 400 Airways Avenue, Savannah, Georgia 31408.

Dated: September 25, 2006.
Pierre V. Duy,
Acting Executive Secretary.

[FR Doc. E6-16520 Filed 10-5-06; 8:45 am]

BILLING CODE 3510-DS-S